DEPARTMENT OF HEALTH AND HUMAN SERVICES

Agency for Toxic Substances and Disease Registry

[ATSDR-180]

Availability of the Draft Document, Public Health Assessment Guidance Manual (Update), Public Comment Draft

AGENCY: Agency for Toxic Substances and Disease Registry (ATSDR), Department of Health and Human Services (HHS).

ACTION: Notice of availability and request for public comment of the draft document, Public Health Assessment Guidance Manual (Update). The draft is a revision and update of the 1992 Public Health Assessment Guidance Manual.

SUMMARY: ATSDR is mandated to conduct public health assessments under Section 104(i) of the Comprehensive Environmental Response, Compensation, and Liability Act of 1980 (CERCLA) [42 U.S.C. 9604(i)] and the Resource Conservation and Recovery Act (RCRA) [42 U.S.C. 6939a(c)].

The general procedures for the conduct of public health assessments are included in the ATSDR Final Rule on Health Assessments and Health Effects Studies of Hazardous Substances Releases and Facilities (55 FR 5136, February 13, 1990, codified at 42 CFR part 90). The revision of the 1992 Guidance Manual sets forth in detail the public health assessment process as developed and modified by ATSDR since 1992 and presents the methodologies and guidelines that will be used by ATSDR staff and agents of ATSDR in conducting public health assessments. Areas emphasized in this updated guidance include community involvement, exposure assessment, and weight-of-evidence (WOE) approaches to decision making about hazards associated with sites.

Availability

The draft Public Health Assessment Guidance Manual (Update) will be available to the public on or about March 25, 2002. A 60-day public comment period will be provided for the draft manual, which will begin on the date of this publication. The close of the comment period will be indicated on the front of the draft manual. Comments received after close of the public comment period will be considered at the discretion of ATSDR based upon what is deemed to be in the best interest of the general public.

ADDRESSES: Requests for the draft manual should be sent to: Chief, Program Evaluation, Records, and Information Services Branch, Agency for Toxic Substances and Disease Registry, 1600 Clifton Road, NE., MS E-56, Atlanta, GA 30333. Upon receipt of the request, one copy of the report will be forwarded free of charge. ATSDR reserves the right to provide only one copy of this draft document free of charge. The document may also be accessed at the ATSDR home page News section at www.atsdr.cdc.gov.

One copy of all comments and supporting documents should be sent to the above address by the end of the comment period noted above. All written comments and data submitted in response to this notice and the draft manual should bear the docket control number ATSDR-180.

FOR FURTHER INFORMATION CONTACT: Further information may be obtained by contacting Dr. Allan S. Susten, ATSDR (Mailstop E-32), 1600 Clifton Road, NE., Atlanta, Georgia 30333, telephone (404) 498-0007 or (toll free) 1-888-42-ATSDR, 1-888-422-8737, or Email: asusten@cdc.gov.

SUPPLEMENTARY INFORMATION: ATSDR is required by CERCLA to conduct public health assessments at all sites on, or proposed for inclusion on, the National Priorities List [42 U.S.C. 9604(i)(6)(A)] and may also conduct public health assessments in response to a request from the public [42 U.S.C. 9604(i)(6)(B)]. In addition, the U.S. Environmental Protection Agency (EPA) may request the conduct of a public health assessment under RCRA [42 U.S.C. 6939a(b)].

The ATSDR public health assessment is the evaluation of data and information on the release of hazardous substances into the environment in order to assess any past, current or future impact on public health and develop or recommend appropriate public health actions which could include health studies or actions needed to evaluate and mitigate or prevent human health effects.

The ATSDR public health assessment includes an analysis and statement of the public health implications posed by the site under consideration. This analysis generally involves an evaluation of relevant environmental data, the potential for exposures to substances related to the site, available toxicologic, epidemiologic and health outcome data, and community concerns associated with a site where hazardous substances have been released. The public health assessment also identifies populations living or working on or near hazardous waste sites for which more extensive public health actions or studies are indicated.

This notice announces the projected availability of the draft Public Health Assessment Guidance Manual (Update). The manual has undergone extensive internal review and will be subjected to scientific and technical review by the ATSDR Board of Scientific Counselors. ATSDR encourages the public's participation and comment on the further development of this manual.

Dated: March 27, 2002.
Georgi Jones,
Director, Office of Policy and External Affairs, Agency for Toxic Substances and Disease Registry.

[FR Doc. 02-7878 Filed 4-1-02; 8:45 am]

BILLING CODE 4163-70-P